DEPARTMENT OF DEFENSE

Office of the Secretary

[Docket ID DOD-2012-OS-0168]

Proposed Collection; Comment Request

AGENCY: Department of Defense (DoD), DoD Chief Information Officer (DoD CIO).

ACTION: Notice.

In compliance with Section 3506(c)(2)(A) of the Paperwork Reduction Act of 1995, the DoD CIO announces a proposed extension of a public information collection and seeks public comment on the provisions thereof. Comments are visited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 19, 2013.

ADDRESSES: You may submit comments, identified by docket number DOD-2012-OS-0168 and title: DoD CIO IASP Information Collection, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Office of the Chief Information Officer, 4800 Mark Center Drive, East Tower, Suite 11E08, Alexandria, VA 22350-1900.

Title and OMB Number: Information Assurance Scholarship Program; OMB Control Number 0704-0486.

Needs and Uses: The National Security Agency (NSA) is the Executive Administrator of the DoD Information Assurance Scholarship Program (IASP), serving on behalf of DoD Chief Information Officer. Those who wish to participate in the DoD IASP Recruitment program must complete and submit an application package through their college or university to NSA. Centers of Academic Excellence in Information Assurance and Research (CAEs) interested in applying for capacity-building grants must complete and submit a written proposal, and all colleges and universities subsequently receiving grants must provide documentation on how the grant funding was utilized and the resulting accomplishments. Without this written documentation, the DoD has no means of judging the quality of applicants to the program or collecting information regarding program performance. In addition, the DoD IASP participants and their faculty advisors (Principal Investigators) are asked to complete annual program assessment surveys. These surveys are collectively reviewed to assess the program's effectiveness from the perspective of the students and Principal Investigators. The survey information is used to improve the program in subsequent years.

Affected Public: “Individuals or households,” specifically college students at institutions designated as CAEs who are interested in, and qualify to apply for a scholarship; CAEs interested in submitting proposals for capacity-building grants, and faculty advisors (Principal Investigators).

Application Process

Annual Burden Hours: 1,926 hours.

Number of Respondents: 337.

Responses per Respondent: 1.

Average Burden per Response: 5.715 hours.

Assessments

Annual Burden Hours: 37 hours.

Number of Respondents: 147.

Responses per Respondent: 1.

Average Burden per Response: 15 minutes.

Frequency: Annually.

SUPPLEMENTARY INFORMATION:

Summary of Information Collection

Respondents to the scholarship information collection are applicants who provide academic records and professional experience summaries to the NSA for the IASP scholar selection process. Respondents to the grants information collection are Principal Investigators at designated Centers of Academic Excellence (CAE) participating in the IASP who provide proposals for capacity building initiatives supporting the expansion of Information Assurance programs at the CAE and across the nation. The DoD IASP is designed to: Increase the number of new college graduate entrants to DoD who possess key cyber-security skill sets; serve as a tool to develop and retain well-educated military and civilian personnel who support the Department's cyberspace mission including cutting edge research and development; and serve as a mechanism to build the nation's cyber infrastructure through grants to colleges and universities designated as CAEs by the National Security Agency and the Department of Homeland Security. In addition, respondents to the annual program assessment survey provide feedback on the program, including suggestions for improvements and changes that can be incorporated to make the grants IASP information collection process stronger and more efficient.

Dated: December 18, 2012.
Aaron Siegel,
Alternate OSD Federal Register Liaison Officer, Department of Defense.

[FR Doc. 2012-30743 Filed 12-20-12; 8:45 am]

BILLING CODE 5001-06-P